DEPARTMENT OF THE INTERIOR

Bureau of Indian Affairs

[201A2100DD/AAKC001030/A0A501010.999900253G]

Draft School Reopening Plan for School Year 2020-2021

AGENCY: Bureau of Indian Affairs, Interior.

ACTION: Notice of consultation.

SUMMARY: The Bureau of Indian Education (BIE) will conduct consultations to obtain oral and written comments on the draft School Reopening Plan (Plan) for school year 2020-2021, for its Bureau-funded schools to ensure BIE is meeting the needs of its students, schools, and Tribal communities to provide a safe environment for the continuation of education of the students in response to the COVID-19 pandemic and following guidance issued by the Centers for Disease Control and Prevention.

DATES: Comments must be received on or before July 25, 2020 at 11:59 p.m. ET. See the SUPPLEMENTARY INFORMATION section of this notice for dates and locations of consultation sessions.

ADDRESSES: Send comments to consultation@bia.gov or Bureau of Indian Education, Juanita Mendoza, 1849 C Street NW, MIB-3612, Washington, DC 20240.

FOR FURTHER INFORMATION CONTACT: Juanita Mendoza, Special Assistant to the Director, Bureau of Indian Education; phone (202) 208-3559 or email Juanita.Mendoza@bie.edu.

SUPPLEMENTARY INFORMATION: The purpose of the consultation is to provide Indian Tribes, school boards, parents, Indian organizations and other interested parties with an opportunity to comment on the Plan for school year 2020-2021. The Plan provides reopening directives for Bureau-operated schools for developing individual school site reopening plans and guidance for Tribally-controlled schools who may utilize the Plan's recommendations to support their individual school site reopening plans. School reopening will also be based on local decision-making in coordination with Tribal and local public health officials. The topics are:

(1) Guidelines for school reopening;

(2) Considerations for teachers and staff;

(3) School building mitigation and cleaning;

(4) Health screening; and

(5) Social distancing and other safety protocols.

The BIE will conduct virtual webinar sessions and will accept both oral and written comments. Due to the COVID-19 pandemic and the approaching start of the 2020-2021 school year, BIE is providing an expedited notification period of 15 days instead of the usual 30-day notification period. The following table lists dates and links to join a consultation session:

For: | Dates | Time (EDT) | To join webinar:
Tribes | Thursday, July 9, 2020 (Day 1) | 3-5 p.m. ET | Register in advance for this meeting: https://us02web.zoom.us/meeting/register/tZErc-urTotEt0x9u1tNXmfYuv5DPddpbCc. After registering, you will receive a confirmation email containing information about joining the meeting.
Public | Friday, July 10, 2020 (Day 2) | 3-5 p.m. ET | Register in advance for this meeting: https://us02web.zoom.us/meeting/register/tZYrceGgqjkuEtHzyFJYyaJUG135xP7yYYZp. After registering, you will receive a confirmation email containing information about joining the meeting.

The Plan is available at https://www.bia.gov/covid-19/school-reopening and will be available at the above-listed sessions. The BIE strongly recommends reviewing the Plan located on BIE's web page prior to attending a consultation session or submitting written comments in order to provide meaningful feedback.

Public Comment Availability

Written comments, including names, street addresses of respondents, will be available for public review at the location listed under the ADDRESSES section of this notice, during regular business hours, 8 a.m. to 4:30 p.m., Monday through Friday, except Federal holidays. Before including your address, telephone number, email address, or other personal identifying information in your comment, be aware that your entire comment—including your personal identifying information—may be made publicly available at any time. While you can ask us in your comment to withhold your personal identifiable information from public view, we cannot guarantee that we will be able to do so.

Tara Sweeney,
Assistant Secretary—Indian Affairs.

[FR Doc. 2020-13819 Filed 6-25-20; 8:45 am]

BILLING CODE 4337-15-P